COMMITTEE FOR PURCHASE FROM PEOPLE WHO ARE BLIND OR SEVERELY DISABLED

Information Collection To Be Submitted to the Office of Management and Budget (OMB) for Approval Under the Paperwork Reduction Act; Annual Certification

AGENCY: Committee for Purchase from People Who Are Blind or Severely Disabled.

ACTION: Notice; request for comments.

SUMMARY: The Committee for Purchase from People Who Are Blind or Severely Disabled (The Committee) will submit the collections of information listed below to OMB for approval under the provisions of the Paperwork Reduction Act. This notice solicits comments on these collections of information.

DATES: Submit your written comments on the information collection on or before January 17, 2006.

ADDRESSES: Mail your comments on the requirement to Janet Yandik, Information Management Specialist, Committee for Purchase from People Who Are Blind or Severely Disabled, 1421 Jefferson Davis Highway, Jefferson Plaza 2, Suite 10800, Arlington, VA, 22202-3259; fax (703) 603-0655; or e-mail rulecomments@jwod.gov.

FOR FURTHER INFORMATION CONTACT: To request a copy of the applicable forms or explanatory material, contact Janet Yandik at information in above paragraph.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The Committee plans to submit a request to OMB to renew its approval of the collections of information concerning annual certification of nonprofit agencies serving people who are blind or who have other severe disabilities to participate in the Javits-Wagner-O'Day (JWOD) Program. The Committee is requesting a 3-year term of approval for these information collection activities.

Federal agencies may not conduct or sponsor, and a person is not required to respond to, a collection of information unless it displays a currently valid OMB control number. The OMB control numbers for these collections of information are 3037-0002 and 3037-0001.

The JWOD Act of 1971 (41 U.S.C. 46-48c) is the authorizing legislation for the JWOD Program. The JWOD Program creates jobs and training opportunities for people who are blind or who have other severe disabilities. Its primary means of doing so is by requiring Government agencies to purchase selected products and services from nonprofit agencies employing such individuals. The JWOD Program is administered by the Committee. Two national, independent organizations, National Industries for the Blind (NIB) and NISH, help State and private nonprofit agencies participate in the JWOD Program.

This information collection renewal request seeks approval for the Committee to continue to collect the information required under 41 CFR 51-4.3 of the regulations so that the Committee can continue to verify the appropriateness of nonprofit agencies that participate in the JWOD Program. There are no changes to these current collections in this renewal request.

Title: Annual Certification—Qualified Nonprofit Agency Serving People Who Are Blind, 41 CFR 51-4.2.

OMB Control Number: 3037-0001.

Form Number: Committee Form 403.

Description of Respondents: Nonprofit agencies serving people who are blind that participate in the JWOD Program.

Annual Number of Respondents: About 77 nonprofit agencies serving people who are blind that participation in the JWOD Program.

Total Annual Burden Hours: Burden is estimated to average 3 hours per respondent. Total annual burden is 231 hours.

Title: Annual Certification—Qualified Nonprofit Agency Serving People Who Are Severely Disabled, 41 CFR 51-4.2.

OMB Control Number: 3037-0002.

Form Number: Committee Form 404.

Description of Respondents: Nonprofit agencies serving people who are severely disabled that participate in the JWOD Program.

Annual Number of Respondents: About 565 nonprofit agencies serving people who are severely disabled that will participation in the JWOD Program.

Total Annual Burden Hours: Burden is estimated to average 3 hour per respondent. Total annual burden is 1,695 hours.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information on respondents.

Sheryl D. Kennerly,
Director, Information Management.

[FR Doc. E5-6384 Filed 11-17-05; 8:45 am]

BILLING CODE 6353-01-P